Title 3—

The President

Presidential Determination No. 02-17 of April 24, 2002

Military Drawdown for Georgia

Memorandum for the Secretary of State [and] the Secretary of Defense

Pursuant to the authority vested in me by the Constitution and laws of the United States, including title III (Foreign Military Financing) of the Foreign Operations, Export Financing, and Related Programs Appropriations Act, 2001 (Public Law 106-429), as amended by title III (Foreign Military Financing) of the Kenneth M. Ludden Foreign Operations, Export Financing, and Related Programs Appropriations Act, Fiscal Year 2002 (Public Law 107-115), I hereby direct the drawdown of defense articles from the stocks of the Department of Defense, defense services from the Department of Defense, and military education and training of an aggregate value of $4 million for Georgia, for the purposes of part II of the Foreign Assistance Act of 1961, as amended.

The Secretary of State is authorized and directed to report this determination to the Congress and to publish it in the Federal Register.

B

THE WHITE HOUSE,

Washington, April 24, 2002.

[FR Doc. 02-11904

Filed 5-9-02; 8:45 am]

Billing code 4710-10-P